DEPARTMENT OF TRANSPORTATION

Federal Aviation Administration

Sixty Sixth RTCA SC-186 Automatic Dependent Surveillance—Broadcast Plenary Meeting

AGENCY: Federal Aviation Administration (FAA), U.S. Department of Transportation (DOT).

ACTION: Sixty sixth RTCA SC-186 Automatic Dependent Surveillance—Broadcast Plenary Meeting.

SUMMARY: The FAA is issuing this notice to advise the public of a meeting of Sixty sixth RTCA SC-186 Automatic Dependent Surveillance—Broadcast Plenary Meeting. SC-186 is a subcommittee of RTCA.

DATES: August 22, 2017, 12:00 p.m.-1:00 p.m. EDT.

ADDRESSES: The meeting will be held as a virtual meeting only.

FOR FURTHER INFORMATION CONTACT: Al Secen at asecen@rtca.org or 202-330-0647, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Sixty sixth RTCA SC-186 Automatic Dependent Surveillance—Broadcast Plenary Meeting. The agenda will include the following:

Tuesday, August 22, 2017

(1) Chairman's Introductory Remarks

(2) Review of Meeting Agenda

(3) Review/Approval of the Sixty-Fifth Meeting Summary

(4) Approval of Terms of Reference Updates

(5) Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 3, 2017.
Mohannad Dawoud,
Management & Program Analyst, Partnership Contracts Branch, ANG-A17, NextGen, Procurement Services Division, Federal Aviation Administration.

[FR Doc. 2017-16722 Filed 8-8-17; 8:45 am]

BILLING CODE 4910-13-P